DEPARTMENT OF HEALTH AND HUMAN SERVICES

Food and Drug Administration

[Docket No. 2007N-0208]

Science Board to the Food and Drug Administration; Amendment of Notice

AGENCY: Food and Drug Administration, HHS.

ACTION: Notice.

The Food and Drug Administration (FDA) is announcing an amendment to the notice of meeting of the Science Board to the Food and Drug Administration (Science Board). This meeting was originally announced in the Federal Register of May 21, 2007 (72 FR 28499). The amendment is being made to reflect a change in the Agenda and Procedure portions of the document. There are no other changes.

FOR FURTHER INFORMATION CONTACT: Carlos Peña, Office of the Commissioner, Food and Drug Administration (HF-33), 5600 Fishers Lane, Rockville, Maryland, 20857, 301-827-6687, carlos.peña@fda.hhs.gov, or FDA Advisory Committee Information Line, 1-800-741-8138 (301-443-0572 in the Washington, DC area), code 3014512603. Please call the Information Line for up-to-date information on this meeting.

SUPPLEMENTARY INFORMATION: In the Federal Register of May 21, 2007, FDA announced that a meeting of the Science Board would be held on June 14, 2007. On page 28499, in the second and third columns, the Agenda and Procedure portions of document are amended to read as follows:

Agenda: The Science Board will hear about and discuss the agency's bioinformatics initiative and fellowship program. The Science Board will hear about and review the scientific validity of the agency's “Interim Melamine and Analogues Safety/Risk Assessment” (http://www.cfsan.fda.gov/~lrd/fr070530.html, Docket No. 2007N-0208). The Science Board will then continue its discussion of the review of both the agency's science programs and the National Antimicrobial Resistance Monitoring System (NARMS) Program, from the March 31, 2006, Science Board meeting. Discussions will first include a subcommittee update to the Science Board on the progress of the review of the agency's science programs. The Science Board will then hear about and discuss the subcommittee review of the NARMS Program including the public meeting regarding the NARMS Program on April 10, 2007, and subsequent deliberations.

Procedure: Interested persons may present data, information, or views, orally or in writing, on issues pending before the committee. We are extending the written submission deadline based upon the amended Federal Register notice. Written submissions may be made to the contact person on or before June 9, 2007. Two oral presentations from the public will be scheduled between approximately 10:45 a.m. and 11:45 p.m., and 3:15 p.m. and 4:15 p.m. Those desiring to make formal oral presentations should notify the contact person and submit a brief statement of the general nature of the evidence or arguments they wish to present, the names and addresses of proposed participants, and an indication of the approximate time requested to make their presentation on or before June 9, 2007. Time allotted for each presentation may be limited. If the number of registrants requesting to speak is greater than can be reasonably accommodated during the scheduled open public hearing session, FDA may conduct a lottery to determine the speakers for the scheduled open public hearing sessions. The contact person will notify interested persons regarding their request to speak by June 9, 2007.

This notice is issued under the Federal Advisory Committee Act (5 U.S.C. app.2) and 21 CFR part 14, relating to the advisory committees.

Dated: June 1, 2007.
Randall W. Lutter,
Associate Commissioner for Policy and Planning.

[FR Doc. 07-2829 Filed 6-4-07; 11:10 am]

BILLING CODE 4160-01-S